DEPARTMENT OF THE INTERIOR

Bureau of Land Management

[LLOR936000.L63340000.DV0000.15XL1109AF; HAG 15-0196; OROR-68370]

Notice of Public Meeting for Proposed Withdrawal; Oregon

AGENCY: Bureau of Land Management, Interior.

ACTION: Notice of public meeting.

SUMMARY: A Notice of Proposed Withdrawal was published in the Federal Register (FR) on June 29, 2015, for approximately 5,216.18 acres of Bureau of Land Management (BLM) managed public domain and revested Oregon California Railroad lands and 95,805.53 acres of National Forest System lands (80 FR 37015). The application provides a two-year temporary segregation of the described Federal land from settlement, sale, location, and entry under public land and United States mining laws. The requested withdrawal is to protect lands identified in House Resolution 682 and Senate Bill 346, known as the Southwestern Oregon Watershed and Salmon Protection Act, while Congress considers the merits of the proposed legislation to permanently withdraw those areas.

Date and Address: Public meetings will be held on Wednesday, September 9, 2015, from 5 p.m. to 8 p.m. at Curry County Fairgrounds, Docia Sweet Hall, 29392 Ellensburg Ave., Gold Beach, Oregon 97444, and Thursday, September 10, 2015, from 5 p.m. to 8 p.m., at Anne G. Basker Auditorium, 600 NW. Sixth Street, Grants Pass, Oregon 97526.

FOR FURTHER INFORMATION CONTACT: Jacob Childers, BLM Oregon/Washington State Office, 503-808-6225; Candice Polisky, USFS Pacific Northwest Region, 503-808-2479. Please send email inquiries to blm_or_wa_withdrawals@blm.gov. Persons who use a telecommunications device for the deaf (TDD) may call the Federal Information Relay Service (FIRS) at 1-800-877-8339 to contact either of the above individuals. The FIRS is available 24 hours a day, 7 days a week. You will receive a reply during normal business hours.

SUPPLEMENTARY INFORMATION: The Federal Register notice published on June 29, 2015 stated that an opportunity for public meeting would be afforded in connection with the proposed withdrawal. The public will have the opportunity to verbally comment or provide written comments at the two public meetings. The publication of the FR notice on June 29, 2015 was the official start of a 90-day public comment period that extends through September 28, 2015. Written comments should be sent to the Bureau of Land Management, Oregon State Office, P.O. Box 2965, Portland, OR 97208-2965, or by email at blm_or_wa_withdrawals@blm.gov.

The meeting will be held in accordance with the regulations set forth in 43 CFR part 2310.3-1.

Chris DeWitt,
Acting Chief, Branch of Land, Mineral, and Energy Resources.

[FR Doc. 2015-19324 Filed 8-5-15; 8:45 am]

BILLING CODE 3411-15-P